DEPARTMENT OF ENERGY

Federal Energy Regulatory Commission

[Docket No. RP00-433-000]

Williams Gas Pipelines Central, Inc.; Notice of Filing

August 10, 2000.

Take notice that Williams Gas Pipelines Central, Inc. (Williams) on August 4, 2000, tendered for filing, pursuant to Article 9.7(d) of the General Terms and Conditions of its FERC Gas Tariff, the following tariff sheets:

Sixteenth Revised Sheet No. 6A

First Revised Sheet No. 251

Second Revised Sheet No. 255

First Revised Sheet No. 256

Williams proposes herein to remove the maximum rate ceiling on capacity release transaction of less than one year as provided in Section 284.8(i). Williams proposes to modify Section 11.4(d) on Sheet No. 255 to provide that the maximum rate ceiling will not apply to capacity release transaction of less than one year for the period March 26, 2000, through September 30, 2002. Williams also proposes to delete language in Section 11.3(b) on Sheet No. 251 which created an exception to the posting and bidding requirements for capacity releases at maximum rate. Finally, Williams proposes to add a footnote to Sheet No. 6A stating that the maximum rates do not apply to releases of less than one year for the period stated above.

Williams states that a copy of its filing was served on all jurisdictional customers and interested state commissions.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-20756 Filed 8-15-00; 8:45 am]

BILLING CODE 6717-01-M